DEPARTMENT OF TRANSPORTATION

Office of the Secretary

Aviation Proceedings, Agreements Filed the Week Ending November 21, 2009

The following Agreements were filed with the Department of Transportation under Sections 412 and 414 of the Federal Aviation Act, as amended (49 U.S.C. 1382 and 1384) and procedures governing proceedings to enforce these provisions. Answers may be filed within 21 days after the filing of the application.

Docket Number: OST-2009-0297.

Date Filed: Novermber 16, 2009.

Parties: Members of the International Air Transport Association.

Subject: PTC COMP, Resolution 024e, Rules for Payment of Local Currency Fares, (Memo 1552), Intended effective date: 15 December 2009.

Renee V. Wright,
Program Manager, Docket Operations, Federal Register Liaison.

[FR Doc. E9-29773 Filed 12-14-09; 8:45 am]

BILLING CODE 4910-62-P